DEPARTMENT OF ENERGY

Federal Energy Regulatory Commission

[Project No. 1922-052]

Ketchikan Public Utilities; Notice of Intent To Prepare an Environmental Assessment and Revising the Processing Schedule

On October 27, 2022, Ketchikan Public Utilities (KPU) filed an application for a new major license for the 7.1-megawatt Beaver Falls Hydroelectric Project (Beaver Falls Project; FERC No. 1922). The Beaver Falls Project is located on Beaver Falls Creek in Ketchikan Gateway Borough, Alaska. The project currently occupies 478.4 acres of United States lands administered by U.S. Forest Service.

In accordance with the Commission's regulations, on October 10, 2023, Commission staff issued a notice that the project was ready for environmental analysis (REA Notice). Based on the information in the record, including comments filed on the REA Notice, staff does not anticipate that licensing the project would constitute a major federal action significantly affecting the quality of the human environment. On January 5, 2024, the Commission issued a notice indicating that staff intended to prepare a draft and final Environmental Assessment (EA). However, upon further review, staff intends to prepare a single EA on the application to relicense the Beaver Falls Project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

By this notice, Commission staff is updating the procedural schedule for completing the EA. The revised schedule is shown below. Further revisions to the schedule may be made as appropriate.

Milestone | Target date
Commission issues EA | December 2024.¹
Comments on EA | January 2024.
¹ The Council on Environmental Quality's (CEQ) regulations under 40 CFR 1501.10(b)(1) (2023) require that EAs be completed within 1 year of the federal action agency's decision to prepare an EA. See National Environmental Policy Act, 42 U.S.C. 4321 et seq., as amended by section 107(g)(1)(B)(iii) of the Fiscal Responsibility Act of 2023, Pub. L. 118-5, 4336a, 137 Stat. 42.

Any questions regarding this notice may be directed to Golbahar Mirhosseini at golbahar.mirhosseini@ferc.gov.

Dated: September 12, 2024.
Debbie-Anne A. Reese,
Acting Secretary.

[FR Doc. 2024-21294 Filed 9-18-24; 8:45 am]

BILLING CODE 6717-01-P